DEPARTMENT OF THE INTERIOR

Geological Survey

Technology Transfer Act of 1986; Notice

AGENCY: U.S. Geological Survey, Interior.

ACTION: Notice of proposed Cooperative Research & Development Agreement (CRADA) Negotiations.

SUMMARY: The United States Geological Survey (USGS) is contemplating entering into a Cooperative Research and Development Agreement (CRADA) with Sequoia Scientific, Inc. for development of a laser sensor system for collecting fluvial sediment data in rivers.

Inquiries: If any other parties are interested in similar activities with the USGS, please contact: John R. Gray, USGS Office of Surface Water, 415 National Center, 12201 Sunrise Valley Drive, Reston, VA 20192; phone (703) 648-5318.

SUPPLEMENTARY INFORMATION: This notice is submitted to meet the USGS policy requirements stipulated in survey Manual Chapter 500.20.

Dated: December 7, 2001.
Robert M. Hirsch,
Associate Director for Water.

[FR Doc. 01-32066 Filed 12-28-01; 8:45 am]

BILLING CODE 4310-Y7-M